DEPARTMENT OF ENERGY

Federal Energy Regulatory Commission

[Docket No. RM93-11-000]

Revisions to Oil Pipeline Regulations Pursuant to the Energy Policy Act of 1992; Notice of Change in Oil Pipeline Index Figure

On January 20, 2022, the Commission determined that the appropriate oil pricing index factor for pipelines to use for the current five-year period is Producer Price Index for Finished Goods minus point two one percent (PPI-FG-0.21%).¹

¹ Five-Year Review of the Oil Pipeline Index, 178 FERC ¶ 61,023, at P 105 (2022) (Order on Rehearing).

In accordance with the Order on Rehearing, oil pipelines must multiply their July 1, 2020 through June 30, 2021 index ceiling levels by positive 0.984288 to recompute their July 1, 2021 through June 30, 2022 index ceiling levels, to be effective March 1, 2022. The index figure published by the Commission reflects the final change in the PPI-FG published by the Bureau of Labor Statistics. The annual average PPI-FG index figures were 205.7 for 2019 and 202.9 for 2020.² Thus, the percent change (expressed as a decimal) in the annual average PPI-FG from 2019 to 2020, minus 0.21%, is negative 0.015712.³ Accordingly, the index multiplier is 0.984288.⁴

² Bureau of Labor Statistics (BLS) publishes the final figure in mid-May of each year. This figure is publicly available from the Division of Industrial Prices and Price Indexes of the BLS, at 202-691-7705, and in print in August in Table 1 of the annual data supplement to the BLS publication Producer Price Indexes via the internet at http://www.bls.gov/ppi/home.htm. To obtain the BLS data, scroll down to “PPI Databases” and click on “Top Picks” of the Commodity Data including “headline” FD-ID indexes (Producer Price Index—PPI). At the next screen, under the heading “PPI Commodity Data,” select the box, “Finished goods—WPUFD49207,” then scroll to the bottom of this screen and click on Retrieve data.

³ [202.9-205.7]/205.7 = (−0.013612)—0.0021 = (−0.015712).

⁴ 1−0.015712 = 0.984288.

In addition to publishing the full text of this Notice in the Federal Register, the Commission provides all interested persons an opportunity to view and/or print this Notice via the internet through FERC's Home Page (http://www.ferc.gov) using the eLibrary link. To access this document in eLibrary, type the docket number excluding the last three digits of this document in the docket number field and follow other directions on the search page. At this time, the Commission has suspended access to the Commission's Public Reference Room due to the proclamation declaring a National Emergency concerning the Novel Coronavirus Disease (COVID-19) issued by the President on March 13, 2020.

User assistance is available for eLibrary and other aspects of FERC's website during normal business hours. For assistance, please contact the Commission's Online Support at 1-866-208-3676 (toll free) or 202-502-6652 (email at FERCOnlineSupport@ferc.gov), or the Public Reference Room at 202-502-8371, TTY 202-502-8659. E-Mail the Public Reference Room at public.referenceroom@ferc.gov.

Dated: January 20, 2022.
Kimberly D. Bose,
Secretary.

[FR Doc. 2022-01521 Filed 1-25-22; 8:45 am]

BILLING CODE 6717-01-P